DEPARTMENT OF LABOR

Occupational Safety and Health Administration

[Docket No. ICR-1218-0147(2000)]

Definition and Requirements for a Nationally Recognized Testing Laboratory; Extension of the Office of Management of Budget's (OMB) Approval of Information-Collection (Paperwork) Requirements

AGENCY: Occupational Safety and Health Administration (OSHA), Labor.

ACTION: Notice of an opportunity for public comment.

SUMMARY: OSHA solicits comments concerning the extension of the information-collection requirements contained in the regulation titled “Definition and Requirements for a Nationally Recognized Testing Laboratory” (29 CFR 1910.7).

Request for Comment

The Agency has a particular interest in comments on the following issues:

• Whether the information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: Submit written comments on or before November 21, 2000.

ADDRESSES: Submit written comments to the Docket Office, Docket No. ICR-1218-0147 (2000), Occupational Safety and Health Administration, U.S. Department of Labor, Room N-2625, 200 Constitution Avenue, N.W., Washington, DC 20210; telephone: (202) 693-2350. Commenters may transmit written comments of 10 pages or less in length by facsimile to (202) 693-1648.

FOR FURTHER INFORMATION CONTACT: Bernard Pasquet, Directorate of Technical Support, Occupational Safety and Health Administration, U.S. Department of Labor, Room N-3653, 200 Constitution Avenue, N.W., Washington, DC 20210, telephone: (202) 693-2110. A copy of the Agency's Information-Collection Request (ICR) supporting the need for the information-collection requirements specified by OSHA for becoming a nationally-recognized testing laboratory (29 CFR 1910.7) is available for inspection and copying in the Docket Office, or you may request a mailed copy by telephoning Bernard Pasquet at (202) 693-2110. For electronic copies of the ICR, contact OSHA on the Internet at http://www.osha.gov.

SUPPLEMENTARY INFORMATION:

I. Background

The Department of Labor, as part of its continuing effort to reduce paperwork and respondent burden, conducts a preclearance consultation program to provide the general public and Federal agencies with an opportunity to comment on proposed and continuing information-collection requirements in accordance with the Paperwork Reduction Act of 1995 (PRA-95) (44 U.S.C. 3506(c)(2)(A)). This program ensures that information is in the desired format, reporting burden (time and costs) is minimal, collection instruments clearly understood, and OSHA's estimate of the information burden is correct. The Occupational Safety and Health Act of 1970 (the Act) authorizes information collection by employers as necesssary or appropriate for enforcement of the Act or for developing information regarding the causes and prevention of occupational injuries, illnesses, and accidents (29 U.S.C. 657).

A number of standards issued by the Occupational Safety and Health Administration (OSHA) contain requirements for equipment, products, or materials. These standards often specify that employers use only equipment, products, or material “tested” or “approved” by a “nationally recognized testing laboratory” (NRTL); this requirement ensures that employers use safe and efficacious equipment, products, or materials in complying with the standards. Accordingly, OSHA promulgated the regulation titled “Definitions and Requirements for a Nationally Recognized Testing Laboratory” (the “Regulation”). The Regulation specifies procedures that organizations must follow to apply for, and to maintain, OSHA's recognition to test and certify equipment, products, or material for this purpose.

As part of the recognition process, the Regulation requires that organizations seeking recognition submit an initial-recognition application to OSHA. The Agency reviews the information provided in the initial-recognition application to determine if an organization meets the qualification criteria specified in the Regulation. These criteria address an organization's capability to test and examine equipment, products, or material for safety (for example, fire or electrical safety). In this regard, the Agency evaluates an organization's facilities, equipment, staff training, written testing procedures, and calibration and quality-control programs necessary to test and examine equipment, products, and material for safety. If OSHA approves the initial-recognition application, it will recognize the organization as an NRTL for five years.

Once recognized, an NRTL may apply to expand its current recognition to cover additional categories of NRTL testing. To do so, an NRTL must submit an expansion-of-recognition application that provides the Agency with information demonstrating that it meets the testing criteria specified by the Regulation for these additional categories. An NRTL may also revise its testing procedures, such as testing methods or pass-fail criteria, provided the revisions are at least as effective as the prior testing procedures; OSHA reviews these revisions during the annual site visit to the NRTL.

To renew recognition for another five-year period, an NRTL must submit a renewal-of-recognition application to the Agency several months before the current recognition expires. OSHA may in some cases dispense with this renewal requirement provided the organization certifies its continuing compliance with the Regulation.

To ensure that NRTLs are meeting the requirements of the Regulation, the Agency attempts to conduct site visits (i.e., audits) at each NRTL annually. During these site visits, an NRTL provides OSHA with written information to evaluate its compliance with the requirements for recognition. These reviews also permit the Agency to determine if revisions to testing procedures made by NRTLs are at least as effective as the prior testing procedures. These site visits help to ensure that equipment, products, or material used by employers to comply with OSHA's standards are providing employees with the highest level of protection available.

II. Proposed Actions

OSHA proposes to extend OMB's approval of the collection-of-information (paperwork) requirements contained in the requirements for becoming a nationally-recognized testing laboratory. OSHA will summarize the comments submitted in response to this notice, and will include this summary in the request to OMB to extend the approval of these information-collection requirements.

Type of Review: Extension of currently approved information-collection requirements.

Title: Definition and Requirements for a Nationally Recognized Testing Laboratory (29 CFR 1910.7).

OMB Number: 1218-0147.

Affected Public: Business or other for-profit organizations; Not-for-Profit institutions; State, Local or Tribal governments.

Number of Respondents: 58.

Frequency: On occasion.

Total Responses: 58.

Average Time per Response: 53 hours.

Estimated Total Burden Hours: 1,345 hours.

Estimated Cost (Operation and Maintenance): $0.

III. Authority and Signature

Charles N. Jeffress, Assistant Secretary of Labor for Occupational Safety and Health, directed the preparation of this notice. The authority for this notice is the Paperwork Reduction Act of 1995 (44 U.S.C. 3506) and Secretary of Labor's Order No. 3-2000 (65 FR 50017).

Signed at Washington, DC on September 12, 2000.
Charles N. Jeffress,
Assistant Secretary of Labor.

[FR Doc. 00-23900 Filed 9-21-00; 8:45 am]

BILLING CODE 4510-26-M